DEPARTMENT OF ENERGY

Federal Energy Regulatory Commission

[Docket No. ER00-1513-000]

California Independent System Operator Corporation; Notice of Filing

February 8, 2000.

Take notice that on February 2, 2000, the California Independent System Operator Corporation (ISO), tendered for filing a notice of termination of the Scheduling Coordinator Agreement (SCA) between the ISO and the Montana Power Trading & Marketing Company. The ISO requests that the SCA be terminated effective March 20, 2000.

The ISO also requests waiver of the Commission's sixty-day prior notice requirement, pursuant to Section 35.3 of the Commission's regulations, 18 CFR 35.3 in order to permit this effective date.

The ISO states that copies of this filing have been served on all parties in the above-referenced docket.

Any person desiring to be heard or to protest such filing should file a motion to intervene or protest with the Federal Energy Regulatory Commission, 888 First Street, NE, Washington, DC 20426, in accordance with Rules 211 and 214 of the Commission's Rules of Practice and Procedure (18 CFR 385.211 and 385.214). All such motions and protests should be filed on or before February 23, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-3757 Filed 2-16-00; 8:45 am]

BILLING CODE 6717-01-M